DEPARTMENT OF AGRICULTURE

Natural Resources Conservation Service

Notice of Proposed Changes to Section IV, Standards and Specifications, of the State Technical Guides of the Natural Resources Conservation Service in the State of California

AGENCY: Natural Resources Conservation Service (NRCS), Department of Agriculture.

ACTION: Notice of availability of proposed changes in Section IV of the California State Technical Guides. NRCS is seeking review and comments to proposed changes.

SUMMARY: Pursuant to Section 343 of Subtitle E of the Federal Agriculture Improvement and Reform Act of 1996 (FAIRA) that requires the Secretary of Agriculture to provide public notice and comment under Section 553 of Title 5, United States Code, with regard to any future revisions to the provisions of the Natural Resources Conservation Service (NRCS) State Technical Guides that are used to carry out Subtitles A, B, and C of Title XII of the Food Security Act of 1985 (16 U.S.C.3801 et seq.), the Natural Resources Conservation Service, United States Department of Agriculture, gives notice of proposed revisions to selected conservation practice standards in Section IV of the State Technical Guides in California.

These proposed revisions are subject to these provisions since one or more practices are used, or could be used, as a part of a conservation management system to comply with the Highly Erodible Land Conservation or Wetland Conservation requirements of the Food Security Act of 1985. These practice standards are also used to plan, design and implement conservation practices cost shared under USDA programs.

Revisions are being proposed for the following practice standards: Closure of Waste Impoundment (360); Conservation Crop Rotation (328); Conservation Cover (327); Contour Farming (330); Contour Stripcropping (585); Cover Crop (340); Grassed Waterway (412); Irrigation System, microirrigation (441); Alley Cropping (311); Constructed Wetland (656); Firebreak (394); Forest Site Preparation (490); Forest Stand Improvement (666); Forest Trails and Landings (655); Heavy Use Area Protection (561); Irrigation System, Tailwater Recovery (447); Pipeline (516); Prescribed Burning (338); Riparian Forest Buffer (391); Spring Development (574); Tree/Shrub Establishment (612); Tree/Shrub Pruning (660); Use Exclusion (472); Watering Facility (614); Windbreak/Shelterbelt Establishment (380); Windbreak/Shelterbelt Renovation (650); PAM Erosion Control (450); Composting Facility (317); Deep Tillage (324); Fish Passage (396); Land Reconstruction, Abandoned Mined Land (543); Land Reconstruction, Currently Mined Land (544); Stream Habitat Improvement and Management (395); Underground Outlet (620); Vegetative Barrier (601); Access Road (560); Diversion (362); Drainage Water Management (554); Fish Pond Management (399); Herbaceous Wind Barriers (603); Irrigation Land Leveling (464); Pond Sealing or Lining-Bentonite Sealant (521C); Pond Sealing or Lining-Soil Dispersant (521B); Roof Runoff Structure (558); Surface Roughening (609); Waste Utilization (633); Dam, Diversion (348); Hedgerow Planting (422); Obstruction Removal (500); Prescribed Grazing (528A); Wastewater Treatment Strip (635); Water and Sediment Control Basin (638); Nutrient Management (590); Mulching (484); Recreation Area Improvement (562); Restoration and Management of Declining Habitats (643); Brush Management (314); and Runoff Management System (570).

DATES: Comments will be received for a period of 30 days following the publication date of this notice.

FOR FURTHER INFORMATION CONTACT: Diane B. Holcomb, State Resource Conservationist, USDA, Natural Resources Conservation Service, 430 G Street, Davis, California 95616-4164. Telephone: (530) 792-5667, FAX: (530) 792-5793, or e-mail diane.holcomb@ca.usda.gov.

Copies of these proposed standards can be obtained on the Web at http://www.ca.nrcs.usda.gov/rts/rts.html, or will be made available upon written request. You may submit written comments to the address above. You may submit your electronic requests and comments to: diane.holcomb@ca.usda.gov.

SUPPLEMENTARY INFORMATION: In California, “State Technical Guides” refers to the State Office Technical Guide maintained by the NRCS State Resource Conservationist in Davis, California, to the Area Technical Guides maintained at each NRCS Area Office in Red Bluff, Salinas, Fresno and Riverside, California, and to the Field Office Technical Guides maintained at each NRCS Field Office in California.

Practice standards establish the minimum level of acceptable quality for planning, designing, installing, operating, and maintaining conservation practices. National standards from the National Handbook of Conservation Practices form the basis for developing State supplements to the standards. All practice standards are reviewed by the State Technical Guide Committee at least once every five years from their date of issuance to determine if the standard is needed and reflects the latest acceptable technology.

Diane B. Holcomb,
State Resource Conservationist.

[FR Doc. 02-22857 Filed 9-9-02; 8:45 am]

BILLING CODE 3410-16-P